DEPARTMENT OF THE INTERIOR

Fish and Wildlife Service

Notice of Availability, Final Restoration Plan and Environmental Assessment

AGENCY: U.S. Fish and Wildlife Service, Department of the Interior.

ACTION: Notice of availability.

SUMMARY: The U.S. Fish and Wildlife Service (Service), on behalf of the Department of the Interior (DOI), as a Natural Resource Trustee (Trustee), announces the release of the Final Restoration Plan and Environmental Assessment (RP/EA) for Operable Unit 3 (OU-3) of the Asbestos Dump Superfund Site, Morris County, New Jersey. The Final RP/EA describes the DOI's selected action to restore natural resources injured as a result of chemical contamination at the Asbestos Dump Superfund Site.

ADDRESSES: Requests for copies of the Final RP/EA may be made to: U.S. Fish and Wildlife Service, New Jersey Field Office, 927 North Main Street, Pleasantville, New Jersey, 08232.

FOR FURTHER INFORMATION CONTACT: Clay Stern, Environmental Contaminants Branch, U.S. Fish and Wildlife Service, New Jersey Field Office, 927 North Main Street, Pleasantville, New Jersey, 08232. Interested parties may also call 609-646-9310, x27 or send electronic mail to clay—stern@fws.gov.

SUPPLEMENTARY INFORMATION: Under the authority of the Comprehensive Environmental Response, Compensation, and Liability Act (CERCLA) of 1980 as amended, commonly known as Superfund, (42 U.S.C. 9601 et seq.), * * * “[Trustees] may assess damages to natural resources resulting from a discharge of oil or a release of a hazardous substance * * * and may seek to recover those damages.” Natural resource damage assessments are separate from the cleanup actions undertaken at a hazardous waste site, and provide a process whereby the Trustees can determine the proper compensation to the public for injury to natural resources. At OU-3 of the Asbestos Dump Superfund Site in Morris County, New Jersey, DOI was the sole natural resource trustee involved in the Federal government's settlement with the National Gypsum Corporation (NGC). The Service, acting on behalf of the DOI, determined that contamination at OU-3 had degraded and injured trust resources within the Great Swamp National Wildlife Refuge. The injuries resulted from the deposition of asbestos containing materials, and mercuric and lead based compounds at the 5.58-acre site.

As part of a Consent Decree requiring remedial actions at OU-3, DOI settled with NGC for natural resource damages. The settlement of approximately $3.6 million was designated for restoration, replacement, or acquisition of the equivalent natural resources injured by the release of contaminants at the site.

The Final RP/EA is being released in accordance with the Natural Resource Damage Assessment Regulations found at Title 43 of the Code of Federal Regulation Part 11. The Final RP/EA describes several natural resource restoration, acquisition, and protection alternatives identified by the DOI, and evaluates each of the possible alternatives based on all relevant considerations. The DOI's Preferred Alternative is to use the settlement funds in a combination of projects aimed to restore, enhance, and protect in perpetuity, fish and wildlife habitat within the Great Swamp Watershed. Details regarding the proposed projects are contained in the Final RP/EA.

The Final Revised Procedures for the DOI in implementing the National Environmental Policy Act were published in the Federal Register on January 16, 1997. Under those procedures the DOI has determined that the Preferred Alternative will not have significant environmental effects as described in the Draft RP/EA and the attached Finding of No Significant Impact Statement. Accordingly, the Preferred Alternative described in the Draft RP/EA will not require preparation of an Environmental Impact Statement.

Author

The primary author of this notice is Clay Stern, U.S. Fish and Wildlife Service, New Jersey Field Office, 927 North Main Street, Pleasantville, New Jersey, 08232.

Authority

The authority for this action is the Comprehensive Environmental Response, Compensation, and Liability Act (CERCLA) of 1980 as amended, commonly known as Superfund, (42 U.S.C. 9601 et seq.).

Dated: July 24, 2001.
Mamie A. Parker,
Acting Regional Director, Region 5, U.S. Fish and Wildlife Service.

[FR Doc. 01-19850 Filed 8-7-01; 8:45 am]

BILLING CODE 4310-55-P